DEPARTMENT OF COMMERCE

National Oceanic and Atmospheric Administration.

[I.D. 033103A]

Proposed Information Collection; Comment Request; Southwest Center Freshwater Salmon and Steelhead Angler Survey.

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 3, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Cindy Thomson, National Marine Fisheries Service, Southwest Fisheries Science Center, 110 Shaffer Road, Santa Cruz, CA 95060, phone 831-420-3911, Cindy.Thomson@noaa.gov.

SUPPLEMENTARY INFORMATION:

I. Abstract

Data on fishery participation, expenditures and demographics will be collected from freshwater salmon and steelhead anglers in California. The data will used to evaluate the economic effects of potential changes in fishery regulations, hatchery practices, and other actions that may be considered to protect chinook, coho, and steelhead stocks listed as threatened or endangered under the Endangered Species Act.

II. Method of Collection

Telephone interviewers will contact a random sample of steelhead report card holders to ask if they had gone steelhead fishing in California in the previous season. Those who were active in the previous season will be asked additional questions regarding their fishing experiences, expenditures, and demographics. Because names and telephone numbers of salmon anglers are not available, a different method of identifying potential salmon respondents will be used. Specifically, names/telephone numbers of individuals who live in central and northern California and identify fishing as one of their interests will be purchased from a company that specializes in special purpose random digit samples. Telephone interviewers will contact individuals in the special purpose sample to ask if they had gone freshwater salmon fishing in California in the previous season. Those who were active in the previous season will be asked additional questions regarding their fishing experiences, expenditures, and demographics.

III. Data

OMB Number: None.

Form Number: None.

Type of Review: Regular submission.

Affected Public: Individuals or households.

Estimated Number of Respondents: 7,565.

Estimated Time Per Response: Two minutes each for the 7,565 respondents to the screening questions; 15 minutes each for the 710 anglers identified in the screening questions as having fished for salmon or steelhead in the previous season.

Estimated Total Annual Burden Hours: 430 hours.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 28, 2003.
Gwellnar Banks,
Management Analyst, Office of the Chief Information Officer.

[FR Doc. 03-8271 Filed 4-3-03; 8:45 am]

BILLING CODE 3510-22-S